DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on a proposed new Form EIA-914, “Monthly Natural Gas Production Report.”

DATES: Comments must be filed by June 22, 2004. If you anticipate difficulty in submitting comments within that period, contact the person listed below as soon as possible.

ADDRESSES: Send comments to Barry Yaffe. To ensure receipt of the comments by the due date, submission by FAX (202-586-9739) or e-mail (barry.yaffe@EIA.doe.gov) is recommended. The mailing address is Office of Oil and Gas, EI-40, Forrestal Building, U.S. Department of Energy, Washington, DC 20585. Alternatively, Barry Yaffe may be contacted by telephone at 202-586-4412.

FOR FURTHER INFORMATION CONTACT: Requests for additional information should be directed to Barry Yaffe at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demand.

The EIA, as part of its effort to comply with the Paperwork Reduction Act of 1995 (Pub. L. 104-13, 44 U.S.C. chapter 35), provides the public and government agencies with opportunities to comment on collections of energy information conducted by or in conjunction with the EIA. Any comments received help the EIA to prepare data requests that maximize the utility of the information collected and to assess the impact of collection requirements on the public. Later, the EIA plans to seek approval by the Office of Management and Budget (OMB) under Section 3507(a) of the Paperwork Reduction Act of 1995.

EIA is proposing a new sample survey, Form EIA-914, “Monthly Natural Gas Production Report.” Using Form EIA-914, EIA's ability to reliably estimate and disseminate timely monthly natural gas production data for the United States and its top producing areas would improve significantly. The applicable elements of the natural gas production activity stream are shown in Figure 1; the associated definitions are shown in Table 1.

The primary quantity to be measured by the survey is “natural gas lease production.” Similar volumes are sometimes referred to as “sales production” or “gas available for sales.” This quantity indicates the net amount of produced gas that leaves the lease, going either to natural gas processing plants or directly to end-users. Other quantities to be reported are “gross withdrawals (wet)” (i.e., full-bore wellstream gas minus lease condensate, oil and water), gas used as fuel on leases, gas used for repressuring and reinjection, quantities vented and flared on leases, and nonhydrocarbons removed on leases. Gross withdrawals (wet) is sometimes referred to as “wet gas after lease separation.” The proposed survey form and instructions are available at http://www.eia.doe.gov/oil_gas/fwd/proposed.html.

BILLING CODE 6450-01-P

BILLING CODE 6450-01-C

Table 1. Definitions

Wellhead: The point at which the natural gas exits the ground.

Lease separation facility (lease separator): A facility installed at the surface for the purpose of (a) separating gases from produced crude oil and water at the temperature and pressure conditions set by the separator and/or (b) separating gases from that portion of the produced natural gas stream that liquefies at the temperature and pressure conditions set by the separator.

Natural gas processing plant: A surface installation designed to separate and recover natural gas liquids from a stream of produced natural gas through the processes of condensation, absorption, adsorption, refrigeration, or other methods and to control the quality of natural gas marketed and/or returned to oil or gas reservoirs for pressure maintenance, repressuring, or cycling.

Gross withdrawals (wet): Full well stream volume, including all natural gas plant liquid and nonhydrocarbon gases, but excluding lease condensate, oil and water. Also includes amounts delivered as royalty payments or consumed in field operations.

Lease condensate: A mixture consisting primarily of pentanes and heavier hydrocarbons that is recovered as a liquid from natural gas in lease or field separation facilities. This category excludes natural gas plant liquids, such as butane and propane, which are recovered at natural gas processing plants or facilities.

Wet natural gas: A mixture of hydrocarbon compounds and small quantities of various nonhydrocarbons existing in the gaseous phase or in solution with crude oil in porous rock formations at reservoir conditions. The principal hydrocarbons normally contained in the mixture are methane, ethane, propane, butane, and pentane. Typical nonhydrocarbon gases that may be present in reservoir natural gas are water vapor, carbon dioxide, hydrogen sulfide, nitrogen and trace amounts of helium. Under reservoir conditions, natural gas and its associated liquefiable portions occur either in a single gaseous phase in the reservoir or in solution with crude oil and are not distinguishable at the time as separate substances. Note: The Securities and Exchange Commission and the Financial Accounting Standards Board refer to this product as natural gas.

Dry natural gas: Natural gas which remains after: (1) The liquefiable hydrocarbon portion has been removed from the gas stream (i.e., gas after lease, field, and/or plant separation); and (2) any volumes of nonhydrocarbon gases have been removed where they occur in sufficient quantity to render the gas unmarketable. Note: Dry natural gas is also known as consumer-grade natural gas. The parameters for measurement are cubic feet at 60 degrees Fahrenheit and 14.73 pounds per square inch absolute.

Repressuring and reinjection: The injection of gas into oil or gas formations to effect greater ultimate recovery.

Vented and flared: Gas that is disposed of by releasing (venting) or burning (flaring).

Extraction loss: The reduction in volume of natural gas due to the removal of natural gas liquid constituents such as ethane, propane, and butane at natural gas processing plants.

Nonhydrocarbon Gases: Typical nonhydrocarbon gases that may be present in reservoir natural gas, such as carbon dioxide, hydrogen sulfide, helium, nitrogen and water vapor.

Marketed production (wet): Gross withdrawals (wet) less gas used for repressuring and reinjection, quantities vented and flared, nonhydrocarbon gases removed in treating or processing operations, and gas used as fuel on lease. Includes all dry natural gas plus quantities of gas consumed in lease and processing plant operations. Natural Gas Lease Production is equal to the sum of marketed wet production (to processing plants) and marketed wet production going directly to end-users (no further processing).

A. EIA's Current Method to Generate Estimates of Natural Gas Production

Currently the EIA publishes monthly estimates of natural gas production in the Natural Gas Monthly [by State, Gulf of Mexico and total United States] and the Monthly Energy Review [total United States], and annually in the Natural Gas Annual [by State, Gulf of Mexico and total United States] and Annual Energy Review [total United States]. EIA obtains data from the following sources:

(1) State-level natural gas production data submitted voluntarily by many producing States to the EIA on Form EIA-895, “Monthly and Annual Quantity and Value of Natural Gas Production Report,”

(2) Other State-level natural gas production information obtained from agencies in various States (directly or from their Web sites), and

(3) Information on offshore natural gas production collected and released by the Minerals Management Service (MMS) in the Department of Interior.

Although EIA obtains data from these sources, the data are subject to reporting lags and non-reporting. The incomplete nature of the more recent data causes EIA to have to create estimates for a substantial share of recent production activity.

The States and MMS gather natural gas production information for various reasons, often for revenue, taxing or conservation purposes. Most State and MMS production data for a given report month are not considered to be reliable for 12-18 months after the close of a report month and may not be considered “final” (i.e., no further revisions) for 2-3 years. The EIA has developed estimation methodologies that operate on the preliminary data from the States with larger production volumes and on the data from MMS, and EIA uses statistical imputation techniques for the States with relatively less production. EIA generates estimates of monthly natural gas production that are considered adequate for release about 120 days after the close of a report month. These methodologies are described in the report, “How EIA Estimates Natural Gas Production,” at http://www.eia.doe.gov/pub/oil_gas/natural_gas/analysis_publications/ngprod/ngprod.pdf.

B. Other Alternatives to Generate Timely, Reliable and More Precise Estimates of Natural Gas Production

The monthly natural gas production estimates that EIA publishes 120 days following the close of a report month have been found, on average, to match “final” values (no further revisions) to within 3% or less at the national level of aggregation. While a 120-day information lag is a vast improvement over the timeliness of the State and MMS-provided source data, it is still too long for the information to be useful in determining near and intermediate term supplies, especially during natural gas peak demand periods. Also, a 3% error band is too large to accurately discern if production has risen or declined in a given month, because the monthly production variations are sometimes within that order of magnitude. Consequently, EIA investigated alternative methods to determine if there are better ways to obtain timelier and more precise national and State-level monthly natural gas production data.

The alternatives considered were: (1) Use of Securities and Exchange Commission (SEC) 10-K and 10-Q submissions, (2) a survey of natural gas pipeline operators, (3) use of data from natural gas processors, and (4) a survey of well operators. The survey of well operators was determined to be the only alternative that could satisfy EIA's requirement for more reliable and more timely natural gas production data.

1. SEC 10-K and 10-Q Submissions

Companies with more than $10 million in assets (whose securities are registered on a national securities exchange and are held by more than 500 owners) must file annual and other periodic financial and business reports with the SEC. SEC forms are easily accessible online through the Electronic Data Gathering, Analysis and Retrieval (EDGAR) system. Because the data are publicly available, the EIA would not be required to obtain permission from any entity prior to publishing data from the SEC. Some industry analysts use the information that companies file with the SEC to assess natural gas production issues. The EIA investigated this approach as a way to obtain reliable monthly natural gas production information.

The SEC Forms 10-K and 10-Q are the two key SEC forms from which natural gas production volume information may be obtained. The annual 10-K is the principal document used by most public companies to disclose corporate information to shareholders. It is usually a “state-of-the-company” report containing financial data, results of continuing operations, market segment information, new product plans, subsidiary activities and research and development activities for future programs. In most cases, the 10-K is to be filed 90 days after the end of the fiscal year covered by the report. The EIA reviewed the SEC Form 10-Ks filed by a selection of natural gas producers, chosen based on their operator ranking in EIA's “U.S. Crude Oil, Natural Gas and Natural Gas Liquids Reserves 2002 Annual Report,” (http://www.eia.doe.gov/oil_gas/natural_gas/data_publications/crude_oil_natural_gas_reserves/cr.html). While all of the selected producers reported a sales volume on their SEC 10-Ks, far fewer of the selected producers reported either production volume or provided a regional breakdown of the data on their Form 10-K, information that would be essential if used by the EIA to estimate total United States and regional natural gas production.

Additionally, even when sales volume information existed on the selected 10-Ks, not all data were comparable across producers because of inherent definitional differences. For example, production reported on the 10-Ks may be either gross withdrawals or marketed production. These volumes differ by more than 10 percent on average for the U.S. Reliable production estimates based on the 10-Ks would require resolution of definitional inconsistencies because of the significant impact they can have on accuracy of the results. Another problem in using the SEC data as a source for natural gas volume information is that the SEC respondents, as producers, report only their equity ownership portion of their natural gas production and sales, which in aggregate was only about 70 percent of the natural gas volumes for which they were operators. A problem related to the reporting of equity interests is that production changes between reports will reflect any action that changes a company's equity interests, including sales or purchases of producing reserves. Changes in these measures do not necessarily serve as a reliable proxy for changes in aggregate production. The quarterly SEC 10-Qs are another potential source of natural gas volume information, but the selected producers provided less information on production and sales on their 10-Qs than they did on their 10-Ks and the quarterly submission schedule doesn't provide the timely monthly data on natural gas production that are needed.

In summary, SEC information is not timely enough and poses a number of problems for estimation. The SEC allows companies to report volumes on the basis of sales or production. When production is reported, there are potential definitional differences. Volumes also are affected by changes in equity positions unrelated to exploration and development activities. For these reasons, the use of SEC 10-K and 10-Q submissions to estimate aggregate and regional production volumes in a timely fashion was determined not to be a viable alternative.

2. Survey of Natural Gas Pipeline Companies

EIA investigated surveying natural gas pipeline companies in lieu of well operators to obtain natural gas production information. There are about 60 major interstate pipelines, 30 non-major interstate pipelines and 113 intrastate pipelines operating in the United States, as compared to more than 15,000 active well operators. (Interstate pipeline counts are based on Federal Energy Regulatory Commission (FERC) information on companies that filed FERC Form 2 and Form 2A in 2002. Seventeen other companies are required to file a Form 2 or Form 2A, but they operated liquefied natural gas (LNG) or storage facilities, not pipelines. The intrastate count was based on company self-identification of primary business type in response to Form EIA-176, “Annual Report of Natural and Supplemental Gas Supply and Disposition.”) In addition to these primary pipelines, there also are many gathering lines and connecting lines to interstate and intrastate pipelines that transport natural gas.

While pipeline companies do collect and maintain daily volumetric data on receipts and deliveries of natural gas, the EIA's review revealed that it would not be practical to use their information to generate timely and accurate estimates of natural gas production. The principal issues of concern include avoiding multiple counting of volumes, identifying the type or quality of gas being transported on the pipeline (see Table 1), identifying appropriate pipelines for the frame, identifying appropriate collection and reporting points on the pipeline, the large number of potential data measurement points, and assuring data quality and timeliness.

A serious problem to overcome in such a survey would be ensuring that the pipeline survey would collect only produced natural gas and would exclude volumes received from other pipeline systems, stored gas and other sources for which the gas may have been previously accounted for. A pipeline operator could not simply report on all volumes received or metered. It would be necessary to target those receipt points that are significantly closer to the producing fields because as pipelines receive natural gas further downstream from the point of production, there is an increasing number of interconnections with other pipelines, which increases the likelihood that the volumes received would include volumes previously recorded elsewhere.

As volumes are reported for points upstream on any given pipeline, the number of receipt points and, therefore, measurement points escalates. For example, according to EIA data, there are 1,107 receipt points within Texas associated with 20 major interstate pipelines. There are an additional 33 intrastate and non-major interstate pipelines in Texas for which EIA would have to collect receipt data in preparation for this survey. Further, either the respondent or EIA would have to differentiate among a pipeline's receipt points to identify those that are appropriate for the survey, and those for which reported volumes potentially are distorted by double-counting of production. Although the number of companies relevant to the proposed pipeline survey might seem to be a reasonable count, the magnitude of the actual reporting burden would be relatively large because of the large number of data measurement points. The initial determination of the set of reporting points, along with maintenance of the proper reporting frame, represents a significant technical challenge.

Accuracy would become a serious problem because, while some pipeline companies have fairly accurate systems to measure and collect receipt volumes, other pipeline companies rely on the accuracy of the metering facilities of pipelines that they deliver natural gas to, and “back into” or balance volumetric receipts based on measured deliveries. This method could result in multiple volume allocation revisions over time and degrade the accuracy of monthly data. Also, while the pipelines would report flow information, it is likely they would not be able to identify the nature of the flow volumes with respect to the EIA definitions. The volumes reported likely would represent a mixture of gas at various stages of the supply process “ gross withdrawals, or wet or dry marketed production. The lack of precision would degrade the accuracy of EIA's estimates of natural gas monthly production.

For the reasons presented above, a survey of pipeline operators was not determined to be a viable alternative for reliably estimating natural gas production.

3. Use of Data From Natural Gas Processors

In 2003 EIA began collecting monthly data from operators of natural gas processing plants on Form EIA-816 (Monthly Natural Gas Liquids Report). The form (see http://www.eia.doe.gov/oil_gas/petroleum/survey_forms/pet_survey_forms.html) collects information on the supply and disposition of natural gas liquids from operators of natural gas processing plants (which extract liquid hydrocarbons from a natural gas stream) and fractionators (which separate a liquid hydrocarbon stream into its component products.) The natural gas liquids information consists of beginning stocks, receipts, production, inputs, shipments, fuel use, losses, and ending stocks. Because the information collected includes the volumes of natural gas received during the month at all natural gas processing plants, EIA considered the use of these data to estimate monthly national and regional natural gas production.

Figure A1-2 in the report, “How EIA Estimates Natural Gas Production,” (http://www.eia.doe.gov/pub/oil_gas/natural_gas/analysis_publications/ngprod/ngprod.pdf), shows that, in 2001, approximately two-thirds of the natural gas produced in the United States went through processing plants and the remaining one third was sold to end-users without processing. Thus the EIA-816 natural gas production information captures only a portion of total natural gas production. In the future, as the EIA-816 production data series begin to span several years, it may be possible to estimate total natural gas production using the EIA-816 monthly data and data from annual surveys. However currently and for the next few years, sufficient historical data for such estimates do not exist and estimates of the quantity of gas that doesn't go through processing plants based on the portion that does cannot be made.

On the other hand, a direct method to determine the quantity of natural gas not going through processing plants would be to survey those companies that have gas that is sold to end-users without further processing, but no method currently exists to identify these companies, which in 2001 accounted for almost a third of natural gas produced. For these reasons, using the new EIA-816 natural gas production data is not considered a viable method to estimate total natural gas production at this time.

4. Survey of Well Operators

Because natural gas may be bought and sold many times before it reaches the final point of consumption, EIA investigated collecting production information at a point “early in the supply chain” to minimize the possibilities of multiple counting. EIA found that it would be feasible to collect such information from companies operating producing wells, as opposed to the producers. While a producer can be defined as the owner (or partial owner) of the wells from which the natural gas is produced, an operator (who may also be an owner) can be defined as the entity that physically operates the producing wells and field facilities on behalf of all owners.

Potential survey respondents would be operators of wells in the United States that produce natural gas, including Federal and State offshore well operators. EIA estimates that approximately 250-350 respondents would be sufficient to develop volume estimates releasable at a national level (with a sampling error of about 1%) and for six areas (Texas, Louisiana—both including State offshore, New Mexico, Oklahoma, Wyoming and the Federal Gulf of Mexico) with a sampling error of less than 5%. Marketed production (wet) in 2002 was about 16,660 bcf (billion cubic feet) per month. In 2002, a 1% sampling error rate at the national level would have corresponded to an error band of plus or minus about 167 bcf of gas. This error band is considered precise enough to accurately discern monthly production variations.

Respondents would be selected from the survey frame for Form EIA-23, “Annual Survey of Domestic Oil and Gas Reserves,” which contains more than 15,000 active oil and gas well operators. These operators already report monthly well or field-level production information to the States and to the MMS (for Federal offshore production). Respondents to the EIA-914 survey would report monthly production totals, not well or field-level data. The primary quantity to be measured by the survey is “natural gas lease production.” Similar volumes are sometimes referred to as “sales production” or “gas available for sales.” This quantity indicates the net amount of produced gas that leaves the lease, going either to natural gas processing plants or directly to end-users. Other quantities to be reported are “gross withdrawals (wet)” (i.e., full-bore wellstream gas minus lease condensate, oil and water), gas used as fuel on leases, gas used for repressuring and reinjection, quantities vented and flared on leases, and nonhydrocarbons removed on leases. Gross withdrawals (wet) is sometimes referred to as “wet gas after lease separation.” The proposed survey form and instructions are available at http://www.eia.doe.gov/oil_gas/fwd/proposed.html.

The survey would be mandatory pursuant to the Federal Energy Administration (FEA) Act of 1974, Public Law 93-275, and would be subject to the provisions of the Confidential Information Protection and Statistical Efficiency Act of 2002 (Public Law 107-347) (CIPSEA), ensuring the confidentiality of the data and that the data would only be used for exclusively statistical purposes unless respondents provided informed consent for other uses. Because of the vital need for timely data, respondents would be expected to submit their survey responses 30 days after the end of the report month. However, EIA recognizes that because some respondents may need some time to be able to meet this requirement, for the first three months of the survey, respondents would be allowed 45 days after the end of a report month to report. The 30-day response requirement would go into effect for the fourth data month. Data would be submitted to the EIA by email, facsimile, or Internet with the secure file transfer (SFT) system. The aggregated data would appear in the EIA publications, Natural Gas Annual, Monthly Energy Review and Natural Gas Monthly, and on EIA's Web site http://www.eia.doe.gov. Data elements for the proposed survey of well operators are listed below.

Data Elements for Form EIA-914

1. Respondent identification data.

2. For Total United States, Texas (including State offshore), Louisiana (including State offshore), Oklahoma, New Mexico, Wyoming and Federal Gulf of Mexico offshore area:

a. Gross withdrawals (wet);

b. Gas used for repressuring and reinjection;

c. Gas vented and flared;

d. Gas used as fuel on leases;

e. Nonhydrocarbons removed on lease;

f. Natural gas lease production.

3. Quantities would be expressed in million cubic feet (MMCF).

4. Pressure base at which all volumes are reported is 14.73 psia at 60 degrees Fahrenheit.

5. Comments.

The proposed survey form and instructions are available at http://www.eia.doe.gov/oil_gas/fwd/proposed.html. Using information reported on Form EIA-914, EIA would publish monthly and annual natural gas production estimates for the United States, Texas (including State offshore), Louisiana (including State offshore), New Mexico, Oklahoma, Wyoming, the Federal Gulf of Mexico, and remaining States, to the extent that confidentiality for company-specific information allows.

II. Current Actions

EIA estimates that a sample-based monthly survey of 250-350 well operators reporting to EIA within 30 days after the end of a report month would be needed for EIA to be able to publish reliable national and regional natural gas production information within 60 days after the end of a report month. The EIA plans to request approval from the Office of Management and Budget (OMB) to conduct this monthly information collection program using Form EIA-914, “Monthly Natural Gas Production Report.” The potential survey respondents would be all operators of producing wells in the United States that produce natural gas, including offshore wells. Respondents would be selected from the survey frame for Form EIA-23, “Annual Survey of Domestic Oil and Gas Reserves” (more than 15,000 active well operators) according to a statistical sampling methodology.

This collection is essential to the mission of the DOE in general and the EIA in particular. Currently there is no timely source of monthly natural gas production in the United States precise enough to discern critical monthly production variations, information which is crucial for informed decision and policy making before and during peak demand periods. The information collected through this survey is expected to be used widely by Federal and State agencies, industry analysts and the general public to monitor natural gas supplies and by the Congress to inform legislative debate.

III. Request for Comments

Prospective respondents and other interested parties should comment on the actions discussed in item II. The following guidelines are provided to assist in the preparation of comments.

General Issues

A. Is the proposed collection and dissemination of information necessary for the proper performance of the functions of the agency and does the information have practical utility? Practical utility is defined as the actual usefulness of information to or for an agency and its customers, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. The EIA is interested in collecting production data on a consistent basis to avoid the need for adjustments after collection that may distort the resulting estimates.

(1) Can well operators provide reliable measures of gross withdrawals (wet), [also called “wet gas after lease separation”] by State or area?

(2) Can operators provide reliable measures of natural gas lease production [also called “sales production,” “marketed production after lease separation,” or “natural gas available for sales”] by State or area?

(3) Can operators provide reliable measures of gas used for reinjection, gas vented and flared, nonhydrocarbons removed, and gas used as fuel on leases, by State or area?

(4) Are there other measures that could be reported more reliably?

(5) Can the information be submitted by the due date (30 days after the close of the report month)?

C. Public reporting burden for this collection is estimated to average 3 hours per respondent monthly. The estimated burden includes the total time necessary to provide the requested information. In your opinion, how accurate is this estimate?

D. The EIA estimates that the only cost to a respondent is for the time it would take to complete the collection. Will a respondent incur any start-up costs for reporting or any recurring annual costs for operation, maintenance, and purchase of services associated with the information collection?

E. What additional actions could be taken to minimize the burden of this collection of information? Such actions may involve the use of automated, electronic, mechanical, or other technological collection techniques or other forms of information technology.

F. Does any other Federal, State, or local agency (other than those mentioned above) collect similar information? If so, specify the agency, the data element(s), the methods of collection, and the accuracy and timeliness of results.

G. The EIA-914 survey will be conducted under CIPSEA. Any agency granted access to the EIA-914 information would be required to sign a document agreeing to maintain the confidentiality of the information and to use the information for statistical purposes unless respondents consent to nonstatistical uses. Would your company sign an informed consent agreement allowing EIA to release your EIA-914 information to other Federal agencies for use in defined emergency situations?

As a Potential User of the Information To Be Collected

A. What actions could be taken to help ensure and maximize the quality, objectivity, utility, and integrity of the information disseminated?

B. Is the information useful at the levels of detail to be collected?

C. For what purpose(s) would the information be used? Please be as specific as possible.

D. Are there alternate sources for the information and are they useful? If so, what are they and what are their weaknesses and/or strengths?

Comments submitted in response to this notice would be summarized and/or included in the request for OMB approval of the form. They also would become a matter of public record.

Statutory Authority: Section 3507(h)(1) of the Paperwork Reduction Act of 1995 (Pub. L. 104-13, 44 U.S.C. chapter 35).

Issued in Washington, DC, April 20, 2004.
Jay H. Casselberry,
Agency Clearance Officer, Statistics and Methods Group, Energy Information Administration.

[FR Doc. 04-9246 Filed 4-22-04; 8:45 am]

BILLING CODE 6450-01-P